DEPARTMENT OF TRANSPORTATION

Pipeline and Hazardous Materials Safety Administration

Office of Hazardous Materials Safety; Notice of Applications for Modification of Special Permit

AGENCY: Pipeline and Hazardous Materials Safety Administration (PHMSA), DOT.

ACTION: List of applications for modification of special permits

SUMMARY: In accordance with the procedures governing the application for, and the processing of, special permits from the Department of Transportation's Hazardous Material Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modification of special permits (e.g., to provide for additional hazardous materials, packaging design changes, additional mode of transportation, etc.) are described in footnotes to the application number. Application numbers with the suffix “M” denote a modification request. These applications have been separated from the new application for special permits to facilitate processing.

DATES: Comments must be received on or before September 9, 2010.

Address Comments to: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, SE., Washington, DC or at http://regulations.gov.

This notice of receipt of applications for modification of special permit is published in accordance with part 107 of the Federal hazardous materials transportation law (49 U.S.C. 5 117(b); 49 CFR 1.53(b)).

Issued in Washington, DC, on August 19, 2010.
Donald Burger,
Chief, Special Permits and Approvals Branch.

Application No. | Docket No. | Applicant | Regulation(s) affected | Nature of special permit thereof
MODIFICATION SPECIAL PERMITS
8453-M |  | R&R Trucking, Inc., Duenweg, MO | 49 CFR 173.1 14a | To modify the special permit to add an additional Division 5.1 hazardous material.
10656-M |  | The Conference of Radiation Control Program Directors, Inc., Frankfort, KY | 49 CFR 172.203(d); Part 172, Subparts C, D, E, F, G | To modify the special permit add 49 CFR Part l72 Subpart I as it pertains to security plans to the list of regulations exempted in paragraph 4.
11406-M |  | Conference of Radiation Control Program Directors, Inc. 174, Frankfort, KY | 49 CFR Part 172, Subparts C, D, E, F, G, H; Part 173, Subparts B, I; Subpart K; 177.842 | To modify the special permit add 49 CFR Part 172 Subpart I as it pertains to security 173.22(a)(1); Part plans to the list of regulations exempted in paragraph 4.
12463-M |  | Washington State Dept./Washington State Ferries, Seattle, WA | 49 CFR 172.101 Column (10); 172.301(c); 172.302(c); 173.302(a) | To modify the special permit to add a new vessel.
12930-M |  | Roeder Cartage Company, Inc., Lima, OH | 49 CFR I 80.407(c),(e) and (f) | To modify the special permit to add an additional Class 8 hazardous material and two additional trailers.
13112-M |  | Conax Florida Corporation, St. Petersburg, FL | 49 CFR 173.302; 175.3 | To modify the special permit to change a drawing number; to lower the temperature range for the safety device and pressure relief system; and change the maximum service pressure, the minimum test pressure and the minimum burst pressure.
132 13-M |  | Washington State Ferries, Seattle, WA | 49 CFR 172.101(10a) | To modify the special permit to add a new vessel.
1331 3-M |  | Washington State Ferries Inc., Seattle, WA | 49 CFR 172.101(10a) | To modify the special permit to add of a new vessel.
14466-M |  | Arctic Circle Air Service, Fairbanks, AK | 49 CFR 172.101 Column (9B) | To modify the special permit to add an additional Division 1.1D hazardous material.
14849-M |  | Rechargeable Battery Recycling Corporation, Atlanta, GA | 49 CFR 172.200, 172.300, 172.400 | To modify the special permit to authorize cargo vessel shipments from Puerto Rico and Guam.
14854-M |  | Airgas, Inc., Radnor, PA | 49 CFR 180.209 | To modify the special permit to waive the requirement to have each shipping paper the notation “DOT-SP 14954”.

[FR Doc. 2010-21015 Filed 8-24-10; 8:45 am]

BILLING CODE 4909-60-M